FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

EDM International Logistics, Inc., 2225 W. Commonwealth Ave., Suite 219, Alhambra, CA 91803, Officers: Liu Hong, Vice President (Qualifying Individual), Xiandi Zhang, Director.

WW Messenger & Shipping Co. Inc., 51 Main Street, Orange, NJ 07050, Officer: Wesley D. Weekes, CEO (Qualifying Individual).

United Express Lines, 2223 Robinson Street, #A, Redondo Beach, CA 90278, Officer: Imad Jack Harfouch, President (Qualifying Individual).

CIC Trading Group Inc., 6985 NW 82 Avenue, Miami, FL 33166, Officers: Jaime Ahues, President (Qualifying Individual), Carmen Ahues, Secretary.

PNL Logistics, Inc., 111 N. Atlantic Blvd., Suite 353-A, Monterey Park, CA 91754, Officers: Michael Tsang, President (Qualifying Individual), Jason Tsang, Secretary.

Non-Vessel-Operating Common Carrier and Ocean Freight Forwarder Transportation Intermediary Applicants

Hilltop Logistics Inc., 8622 Bellanca Ave., Suite #1, Los Angeles, CA 90045, Officers: Pei Yang, President (Qualifying Individual), Steve Lok, Secretary.

Fastway Moving and Storage Inc. dba Fastway Moving, 4 Gill Street, Suite D, Wobum, MA 01801, Officer: Leonardo P. Abuquerque, Vice President (Qualifying Individual).

Logos Logistics Inc., 3605 Long Beach Blvd., Suite #227, Long Beach, CA 90807, Officers: Young D. An (aka Diane An), Secretary (Qualifying Individual), Chung Mo An, President.

Oriental Air & Sea Transport (SFO), Inc., 1717 Oakland Rd., San Jose, CA 95131, Officer: Kenneth C. Wong, President (Qualifying Individual).

Ocean Freight Forwarder-Ocean Transportation Intermediary Applicants

VALCAD Construction, L.L.C., 3351 FM 780, Ferris, TX 75125, Officer: Yvette A. Parra, Vice President (Qualifying Individual).

Atlas Logistics USA Inc., 2401 E. Atlantic Blvd., Pompano Beach, FL 33062, Officers: Frank Granizo, Vice President (Qualifying Individual), Mark A. Granizo, President.

Dated: January 22, 2007.
Bryant L. VanBrakle,
Secretary.

[FR Doc. E7-1565 Filed 1-30-07; 8:45 am]

BILLING CODE 6730-01-P